NUCLEAR REGULATORY COMMISSION

Preclosure Safety Analysis—Level of Information and Reliability Estimation; Availability of Final Interim Staff Guidance Document

AGENCY: Nuclear Regulatory Commission.

ACTION: Notice of issuance; correction.

SUMMARY: This document corrects a notice, appearing in the Federal Register on March 22, 2007 (72 FR 13534), that announces the availability of a final interim staff guidance document on “Preclosure Safety Analysis—Level of Information and Reliability Estimation.” This action is necessary to correct typographical errors.

FOR FURTHER INFORMATION, CONTACT: Jon Chen, Project Manager, Division of High-Level Waste Repository Safety, Office of Nuclear Material Safety and Safeguards, U.S. Nuclear Regulatory Commission, Washington, DC 20555-0001 [Telephone: (301) 415-5526; fax number: (301) 415-5399; e-mail: jcc2@nrc.gov.]

SUPPLEMENTARY INFORMATION: On page 13534, in the middle column, in the first paragraph, last sentence, “waste at a geologic repository” is changed to “waste geologic repository.”

On page 13536, in the middle column, in the fourth complete paragraph, lines 4-5, “DOE should to consider” is changed to read “DOE should consider.”

On page 13536, in the middle column, in the fourth complete paragraph, lines 7-8, “DOE should to provide” is changed to read “DOE should provide.”

On page 13537, in the third column, in the eighth complete paragraph, lines 1-2, “Lines 445: Though 453: λ was changed to, to distinguish this quantity” is changed to “Lines 445 through 453: λ was changed to p̂ to distinguish this quantity.”

Dated at Rockville, Maryland, this 11th day of April, 2007.
For the Nuclear Regulatory Commission.
N. King Stablein,
Chief Project-Management Branch B, Division of High-Level Repository Safety, Office of Nuclear Material Safety and Safeguards.

[FR Doc. E7-7373 Filed 4-17-07; 8:45 am]

BILLING CODE 7590-01-P